DEPARTMENT OF HOMELAND SECURITY

Coast Guard

[USCG-2001-10486]

Approval of Ballast Water Treatment Systems; Correction

AGENCY: Coast Guard, DHS.

ACTION: Notice with request for comments; correction.

SUMMARY: The Coast Guard is correcting a notice with request for comments that appeared in the Federal Register of August 5, 2004 (69 FR 47453). The notice with request for comments seeks consultation with all interested and affected parties in establishing a program to approve ballast water treatment systems. This correction clarifies the notice.

DATES: This correction is effective on July 28, 2004.

FOR FURTHER INFORMATION CONTACT: If you have questions on this rule, call Mr. Bivan Patnaik, Project Manager, Environmental Standards Division, Coast Guard, telephone 202-267-1744, e-mail: bpatnaik@comdt.uscg.mil. If you have questions on viewing the docket, call Ms. Andrea M. Jenkins, Program Manager, Docket Operations, telephone 202-366-0271.

SUPPLEMENTARY INFORMATION: The Coast Guard's Approval of Ballast Water Treatment Systems notice (FR Doc. 04-17827) appearing on page 47454 of the Federal Register of Thursday, August 5, 2004, the following correction is made:

On page 47454, in the FOR FURTHER INFORMATION CONTACT section change telephone number “(202) 267-0995” to “(202) 267-1744”.

Dated: August 19, 2004.
Steve Venckus,
Chief, Office of Regulations & Administrative Law, Office of the Judge Advocate General, U.S. Coast Guard.

[FR Doc. 04-19452 Filed 8-24-04; 8:45 am]

BILLING CODE 4910-15-P